FEDERAL COMMUNICATIONS COMMISSION

47 CFR Part 54

[WC Docket No. 02-60; FCC 04-15]

Rural Health Care Support Mechanism

AGENCY: Federal Communications Commission.

ACTION: Final rule.

SUMMARY: In this document, the Commission reconsiders, on its own motion, requirements in the Commission's rules that the Universal Service Administrative Company (USAC) submit to the Commission an annual report on the rural health care program on the first business day in May of each year. The Commission recently made a number of changes to the rural health care program to improve the program's effectiveness. In the Rural Health Care Order, 68 FR 74492, December 24, 2003, the Commission expanded the entities eligible to participate in the program, added Internet access to the list of services eligible for discounts, and modified the way in which telecommunications service discounts are calculated. The Commission does not believe it necessary for USAC to submit two separate annual reports to the Commission on the rural health care program.

DATES: Effective April 14, 2004.

FOR FURTHER INFORMATION CONTACT: Diane Law-Hsu, Deputy Chief, (202) 418-7400, Wireline Competition Bureau, Telecommunications Access Policy Division.

SUPPLEMENTARY INFORMATION: This is a summary of the Commission's Order on Reconsideration, in WC Docket No. 02-60, FCC 04-15, released January 16, 2004. The full text of this document is available for public inspection during regular business hours in the FCC Reference Center, Room CY-A257, 445 12th Street, SW., Washington, DC 20554.

I. Introduction

1. In this Order on Reconsideration, the Commission reconsiders, on its own motion, the requirement in § 54.619(d) of the Commission's rules that the Universal Service Administrative Company (USAC) submit to the Commission an annual report on the rural health care program on the first business day in May of each year. In the Rural Health Care Order, the Commission recently made a number of changes to the rural health care program to improve the program's effectiveness. The Commission expanded the entities eligible to participate in the program, added Internet access to the list of services eligible for discounts, and modified the way in which telecommunications service discounts are calculated. Although the Commission made other changes to § 54.619 in this recent order, it made no changes to § 54.619(d). Section 54.702(g) already requires USAC to submit an annual report detailing its activities and information for each of the support mechanisms, including the rural health care program, to the Commission by March 31, of each year.

2. The Regulatory Flexibility Act of 1980, as amended (RFA), see 5 U.S.C. 605(b), requires that a regulatory flexibility analysis be prepared for notice and comment rulemaking proceedings unless the agency certifies that “the rule will not, if promulgated, have a significant economic impact on a substantial number of small entities.” The Commission hereby so certifies, because our action relieves affected entities, including small entities, of an unnecessary reporting requirement and therefore results in a positive economic impact. The Commission also expects that that impact will not significant.

II. Ordering Clauses

3. Pursuant to the authority contained in sections 1-4, 201-202, 254, and 405 of the Communications Act of 1934, as amended, and § 1.108 of the Commission's rules, this Order on Reconsideration is adopted.

4. Part 54 of the Commission's rules, 47 CFR 54.619(d), is amended, as set forth effective April 14, 2004.

List of Subjects in 47 CFR Part 54

Communications common carrier, Telecommunications, Telephone.

Federal Communications Commission.
Marlene H. Dortch,
Secretary.

Final Rule

For the reasons discussed in the preamble, the Federal Communications Commission amends 47 CFR part 54 as follows:

PART 54—UNIVERSAL SERVICE

1. The authority citation for Part 54 continues to read as follows:

Authority: 47 U.S.C. 1, 4(i), 201, 205, 214, and 254 unless otherwise noted.

§ 54.619 [Amended]

2. Amend § 54.619 by removing paragraph (d).

[FR Doc. 04-5816 Filed 3-12-04; 8:45 am]

BILLING CODE 6712-01-P